DELAWARE RIVER BASIN COMMISSION

Notice of Public Hearing on Chesapeake Appalachia, LLC Surface Water Withdrawal Project

Notice is hereby given that the Delaware River Basin Commission (DRBC or “Commission”) will hold a public hearing on Wednesday, September 23, 2009 on revised proposed Docket No. D-2009-20-1 for Chesapeake Appalachia, LLC (also, “Chesapeake”). The hearing will be held at the PPL Corporation Wallenpaupack Environmental Learning Center, 126 PPL Drive, Hawley, Pennsylvania 18428-0122. The hearing will begin at 10 a.m. and will continue until all those who wish to speak have had an opportunity to do so. No other Commission business will be conducted at the September 23, 2009 hearing.

Chesapeake Appalachia, LLC applied to the Commission for approval of a surface water withdrawal project to supply a maximum of 29.99 mg/30 days of water for the applicant's exploration and development of natural gas wells in the State of New York and the Commonwealth of Pennsylvania. Surface water is proposed to be withdrawn from the West Branch of the Delaware River at a location known as the Cutrone Site in Buckingham Township, Wayne County, Pennsylvania. The project is located in the Delaware River Watershed within the drainage area of the section of the non-tidal Delaware River known as the Upper Delaware, which is designated as Special Protection Waters.

The Commission held a public hearing on an initial draft of Docket D-2009-20-1 at its business meeting of July 15, 2009 in Bethlehem, Pennsylvania. It heard testimony on the draft docket from approximately 40 witnesses on that date. Voluminous written comment was submitted on or before the July 15 hearing. In light of the high level of public interest in the project, the Commission took no action on the docket on July 15, and on that date it extended the written comment period through July 29, 2009. Approximately 1,200 written comments (excluding petitions) were received on the docket by the close of the comment period. After review and consideration of these comments, the Commission and staff are developing a revised draft docket, which will be posted on the Commission's Web site, http://www.drbc.net, on or before the close of business on Friday, September 11, 2009. Public comment is requested on those aspects of the docket that have been substantively modified. A list of these aspects will be provided on the Commission's Web site at the time the revised draft is posted.

Additional public records relating to the draft Chesapeake docket are available for review consistent with Article 8 of the Commission's Rules of Practice and Procedure (RPP) governing public access to records and information. The RPP are also available on the Commission's Web site, http://www.drbc.net.

Individuals in need of an accommodation as provided for in the Americans with Disabilities Act who wish to attend the hearing should contact the commission secretary directly at 609-883-9500 ext. 203 or through the Telecommunications Relay Services (TRS) at 711, to discuss how the Commission can accommodate your needs.

Dated: August 25, 2009.
Pamela M. Bush,
Commission Secretary.

[FR Doc. E9-20927 Filed 8-28-09; 8:45 am]

BILLING CODE 6360-01-P